DEPARTMENT OF THE INTERIOR

National Park Service

[NPS-WASO-NAGPRA-NPS0033014; PPWOCRADN0-PCU00RP14.R50000]

Notice of Inventory Completion: Florida State University, Department of Anthropology Tallahassee, FL

AGENCY: National Park Service, Interior.

ACTION: Notice.

SUMMARY: The Department of Anthropology at Florida State University (FSU) has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology at FSU. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology at FSU at the address in this notice by December 23, 2021.

FOR FURTHER INFORMATION CONTACT: Dr. Geoffrey Thomas, Florida State University, Department of Anthropology, 60 North Woodward Avenue, Tallahassee, FL 32306, telephone (850) 644-8156, email gpthomas@fsu.edu.

SUPPLEMENTARY INFORMATION: Notice is here given in accordance with the Native American Graves Protection and Repatriation Act (NAGPRA), 25 U.S.C. 3003, of the completion of an inventory of human remains and associated funerary objects under the control of Florida State University, Department of Anthropology, Tallahassee, FL. The human remains and associated funerary objects were removed from Jefferson County and Wakulla County, FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology at FSU professional staff in consultation with representatives of the Miccosukee Tribe of Indians; Seminole Tribe of Florida [previously listed as Seminole Tribe of Florida (Dania, Big Cypress, Brighton, Hollywood, & Tampa Reservations)]; Thlopthlocco Tribal Town; and the Tunica-Biloxi Indian Tribe (hereafter referred to as “The Tribes”).

History and Description of the Remains

In 1964, human remains representing, at minimum, one individual were removed from Oakland Mound and Village Area (8JE53), in Jefferson County, FL, by D. Phelps. This site was recorded in 1956 by Florida State University and was initially excavated in 1958-1959 by Charles Fairbanks, Edward Dolan, and Bennie Keel. In 1964, D. Phelps excavated test squares within the burial mound. The human remains from Phelps' excavations have been at Florida State University since that investigation. They belong to an individual of unknown age and sex. No known individual was identified. No associated funerary objects are present.

In 1966, human remains representing, at minimum, 15 individuals were removed from the Marsh Island Site (8WA1), in Wakulla County, FL, by R.O. Brock and brought to FSU. Based on information provided by Brock in the site report, a total of seven intrusive burials were found that, together, contained at least 15 individuals. These intrusive burials were classified as belonging to either the Weeden Island or Fort Walton cultural phase. No known individuals were identified. The three associated funerary objects are plain ceramic sherds.

In 1966, human remains representing, at minimum, four individuals were removed from the Nichols Site (8WA3) in Wakulla County, FL, by D. Phelps of Florida State University. All the burials at this site were superficial. The mound has been completely destroyed, but contextual information suggests it is a Weeden island platform mound with intrusive Fort Walton burials. No known individuals were identified. The 14 associated funerary objects are stamped and plain ceramic sherds.

Determinations Made by the Department of Anthropology, Florida State University

Officials of the Department of Anthropology, Florida State University have determined that:

• Pursuant to 25 U.S.C. 3001(9), the human remains described in this notice represent the physical remains of 20 individuals of Native American ancestry.

• Pursuant to 25 U.S.C. 3001(3)(A), the 17 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Geoffrey Thomas, Florida State University, Department of Anthropology, 60 North Woodward Avenue, Tallahassee, FL 32306, telephone (850) 644-8156, email gpthomas@fsu.edu, by December 23, 2021. After that date, if no additional requestors have come forward, transfer of control of the human remains and associated funerary objects to The Tribes may proceed.

The Department of Anthropology, Florida State University is responsible for notifying The Tribes that this notice has been published.

Dated: November 17, 2021.
Melanie O'Brien,
Manager, National NAGPRA Program.

[FR Doc. 2021-25523 Filed 11-22-21; 8:45 am]

BILLING CODE 4312-52-P